DEPARTMENT OF THE INTERIOR

Bureau of Indian Affairs

[245A2100DD/AAKC001030/A0A501010.999900]

Notice of Intent To Prepare an Environmental Impact Statement for the Confederated Tribes of the Colville Reservation's Proposed Fee-to-Trust and Casino Project, Franklin County, Washington

AGENCY: Bureau of Indian Affairs, Interior.

ACTION: Notice.

SUMMARY: This notice advises the public that the Bureau of Indian Affairs (BIA), as lead agency, intends to gather information necessary for preparing an Environmental Impact Statement (EIS) pursuant to the National Environmental Policy Act (NEPA) in connection with the Confederated Tribes of the Colville Reservation (Colville Tribes) proposed Fee-to-Trust and Casino Project in the City of Pasco, Franklin County, Washington. This notice also opens public scoping to identify potential issues, concerns, and alternatives to be considered in the EIS.

DATES: To ensure consideration during the development of the EIS, written comments on the scope of the EIS should be sent as soon as possible and no later than 30 days after publication of this Notice of Intent (NOI) in the Federal Register. The time and date of the public scoping meeting will be announced at least 15 days in advance through a notice to be published in the local newspaper (The Tri-City Herald) and online at http://www.colvilleeis.com.

ADDRESSES: You may mail written comments to Bryan Mercier, Regional Director, Bureau of Indian Affairs, Northwest Region, 911 NE 11th Avenue, Portland, Oregon 97232. Please include your name, return address, and “NOI Comments, Colville Tribes Fee-to-Trust and Casino Project” on the first page of your written comments. You may also submit comments through email to Tobiah Mogavero, NEPA Coordinator, Bureau of Indian Affairs, at: tobiah.mogavero@bia.gov, using “NOI Comments, Colville Tribes Fee-to-Trust and Casino Project” as the subject of your email.

FOR FURTHER INFORMATION CONTACT: Mr. Tobiah Mogavero, NEPA Coordinator, Bureau of Indian Affairs, Northwest Region, (435) 210-0509, tobiah.mogavero@bia.gov. Information is also available online at http://www.colvilleeis.com.

SUPPLEMENTARY INFORMATION: The Colville Tribes submitted a Fee-to-Trust application to the Bureau of Indian Affairs (BIA) requesting the placement of approximately 164.63 acres of fee land in trust by the United States upon which the Colville Tribes would construct a casino resort. The facility would include an approximately 184,200-square-foot casino, 200-room hotel, an event center, eateries, and supporting facilities. The proposed Fee-to-Trust property is located within the boundaries of the City of Pasco, Franklin County, Washington. The proposed trust property is comprised of one parcel (Assessor Parcel No. 113-130-068) bound by N. Capitol Avenue to the west, commercial and industrial development to the west and south, and agricultural parcels to the north and east. The purpose of the proposed action is to improve the economic status of the Tribal government so that it can provide comprehensive services and ensure the continued social and economic independence and well-being of its Tribal members.

The proposed action encompasses the various federal approvals that may be required to implement the Colville Tribes' proposed project, including approval of the Colville Tribes' Fee-to-Trust application and Secretarial Determination pursuant to section 20(b)(1)(A) of the Indian Gaming Regulatory Act (25 U.S.C. 2719(b)(1)(A)). The EIS will identify and evaluate issues related to these approvals and will also evaluate a range of reasonable alternatives. Possible alternatives currently under consideration include: (1) a reduced-intensity casino alternative, and (2) an alternate-use (non-gaming) alternative. The range of alternatives evaluated in the EIS may be expanded based on comments received during the scoping process.

Areas of environmental concern preliminarily identified for analysis in the EIS include land resources; water resources; air quality; noise; biological resources; cultural/historic/archaeological resources; resource use patterns; traffic and transportation; public health and safety; hazardous materials and hazardous wastes; public services and utilities; socioeconomics; environmental justice; visual resources/aesthetics; and cumulative, indirect, and growth-inducing effects. The range of issues to be addressed in the EIS may be expanded or reduced based on comments received in response to this notice and at the public scoping meeting. Additional information, including a map of the proposed trust property, is available by contacting the person listed in the FOR FURTHER INFORMATION CONTACT section of this notice or online at http://www.colvilleeis.com.

Public Comment Availability

Comments, including names and addresses of respondents, will be included as part of the administrative record and Scoping Report for the EIS. Before including your address, telephone number, email address, or other personal identifying information in your comment, you should be aware that your entire comment—including your personal identifying information—may be made publicly available at any time. While you can ask in your comment that your personal identifying information be withheld from public review, the BIA cannot guarantee that this will occur.

Authority

This notice is published in accordance with sections 1503.1 and 1506.6 of the Council on Environmental Quality regulations (40 CFR 1500 et seq.) and the Department of the Interior regulations (43 CFR part 46) implementing the procedural requirements of the NEPA (42 U.S.C. 4321 et seq.), and in accordance with the exercise of authority delegated to the Assistant Secretary—Indian Affairs by part 209 of the Department Manual.

Wizipan Garriott,
Principal Deputy Assistant Secretary—Indian Affairs, Exercising by delegation the authority of the Assistant Secretary—Indian Affairs.

[FR Doc. 2024-07049 Filed 4-2-24; 8:45 am]

BILLING CODE 4337-15-P